NATIONAL CREDIT UNION ADMINISTRATION

Agency Information Collection Activities: Submission to OMB for Extension of a Currently Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until June 14, 2007.

ADDRESSES: Interested parties are invited to submit written comments to the NCUA Clearance Officer listed below:

Clearance Officer: Mr. Neil McNamara, National Credit Union Administration, 1775 Duke Street, Alexandria, VA 22314-3428, Fax No. 703-837-2861, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: 12 CFR part 748, Security Program and Appendix B.

OMB Number: 3133-0033.

Form Number: None.

Type of Review: Third party disclosure, and reporting, on occasion.

Description: 12 CFR part 748 requires federally insured credit unions to develop a written security program to safeguard sensitive member information. This information collection requires that such programs be designed to respond to incidents of unauthorized access or use, in order to prevent substantial harm or serious inconvenience to members.

Respondents: Federally insured credit unions.

Estimated No. of Respondents/Recordkeepers: 8,695.

Estimated Burden Hours per Response: 20 hours.

Frequency of Response: On occasion.

Estimated Total Annual Burden Hours: 178,076 hours.

Estimated Total Annual Cost: None.

By the National Credit Union Administration Board on May 8, 2007.
Mary Rupp,
Secretary of the Board.

[FR Doc. E7-9231 Filed 5-14-07; 8:45 am]

BILLING CODE 7535-01-P